DEPARTMENT OF ENERGY

Federal Energy Regulatory Commission

Notice of Scoping Meetings and Environmental Site Review and Soliciting Scoping Comments

FFP Missouri 5, LLC—Project No. 13757-002.

FFP Missouri 6, LLC—Project No. 13761-002.

Solia 6 Hydroelectric, LLC—Project No. 13768-002.

Take notice that the following hydroelectric applications have been filed with the Commission and are available for public inspection.

a. Type of Applications: Original Major Licenses

b. Project Nos.: 13757-002; 13761-002; 13768-002

c. Dates Filed: March 14, 2014

d. Applicants: FFP Missouri 5, LLC; FFP Missouri 6, LLC; Solia 6 Hydroelectric, LLC.

e. Names of Projects: Emsworth Locks and Dam Hydroelectric Project, 13757-002; Emsworth Back Channel Hydroelectric Project, 13761-002; Montgomery Locks and Dam Hydroelectric Project, 13768-002.

f. Locations: The proposed projects would be located at U.S. Army Corps of Engineers' (Corps) dams on the Ohio River in Allegheny and Beaver counties, Pennsylvania (see table below for specific locations). The projects would occupy 16.95 acres of federal land managed by the Corps.

Project No. | Projects | County and State | City/town | Federal land used by project (acres)
P-13757 | Emsworth Locks and Dam | Allegheny, PA | Emsworth | 9.58
P-13761 | Emsworth Back Channel Dam | Allegheny, PA | Emsworth | 2.26
P-13768 | Montgomery Locks & Dam | Beaver, PA | Borough of Industry | 5.11

g. Filed Pursuant to: Federal Power Act, 16 U.S.C. 791 (a)-825(r).

h. Applicant Contact: Thomas Feldman, Rye Development, LLC, PO Box 390691 Cambridge, MA 02139; or at (617) 433-8140; or tom@ryedevelopment.com.

i. FERC Contact: Brandi Sangunett, (202) 502-8393 or brandi.sangunett@ferc.gov

j. Deadline for filing scoping comments: November 10, 2014

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the docket number(s) for the project(s) (e.g., P-13757-002).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. The proposed Emsworth Locks and Dam Hydroelectric Project would be the most upstream project at river mile (RM) 6.2 and would consist of the following new facilities: (1) A 205-foot-long, 180-foot-wide intake channel containing a 30-foot-long, 63.5-foot-high, 180-foot-wide intake structure with 5-inch bar spacing trashracks; (2) a 180-foot-long, 77-foot-high, 180-foot-wide reinforced concrete powerhouse on the south bank of the river; (3) four turbine-generator units with a combined capacity of 24 megawatts (MW); (4) a 380-foot-long, 280-foot-wide tailrace; (5) a 50-foot-long by 60-foot-wide substation; (6) a 1,893-foot-long, 69-kilovolt (kV), overhead transmission line to connect the project substation to an existing substation; and (7) appurtenant facilities. The average annual generation would be 101,300 megawatt-hours (MWh).

The proposed Emsworth Back Channel Dam Hydroelectric Project would be located at RM 6.8 and consist of the following new facilities: (1) A 100-foot-long, 165-foot-wide intake channel containing a 32-foot-long, 63.5-foot-high, 90-foot-wide intake structure with 5-inch bar spacing trashracks; (2) a 150-foot-long, 77-foot-high, 90-foot-wide reinforced concrete powerhouse on the north bank of the river; (3) two turbine-generator units with a combined capacity of 12.0 MW; (4) a 190-foot-long, 105-foot-wide tailrace; (5) a 50-foot-long by 60-foot-wide substation; (6) a 3,758-foot-long, 69-kV, overhead transmission line to connect the project substation to an existing substation; and (7) appurtenant facilities. The average annual generation would be 53,500 MWh.

The proposed Montgomery Locks and Dam Hydroelectric Project would be located at RM 31.7 and consist of the following new facilities: (1) A 340-foot-long, 205-foot-wide intake channel containing a 150-foot-long, 90-foot-high, 205-foot-wide intake structure with 5-inch bar spacing trashracks; (2) a 315-foot-long, 105-foot-high, 205-foot-wide reinforced concrete powerhouse on the north bank of the river; (3) three turbine-generator units with a combined capacity of 42 MW; (4) a 280-foot-long, 210-foot-wide tailrace; (5) a 50-foot-long by 60-foot-wide substation; (6) a 392-foot-long, 69-kV, overhead transmission line to connect the project substation to an existing distribution line; and (7) appurtenant facilities. The average annual generation would be 194,370 MWh.

The applicants propose to operate all three projects in a “run-of-river” mode using flows made available by the Corps. The proposed projects would not change existing flow releases or water surface elevations upstream or downstream of the proposed projects.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an environmental assessment (EA) on the projects in accordance with the National Environmental Policy Act. The EA will consider both site-specific and cumulative environmental impacts and reasonable alternatives to the proposed actions.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Public Scoping Meeting

Date: Thursday, October 9, 2014

Time: 7:00 p.m. (EDT)

Place: DoubleTree by Hilton Hotel Pittsburgh—Green Tree

Address: 500 Mansfield Avenue, Pittsburgh, PA 15205

(412) 922-8400

Agency Scoping Meeting

Date: Friday, October 10, 2014

Time: 9:30 a.m. (EDT)

Place: DoubleTree by Hilton Hotel Pittsburgh—Green Tree

Address: 500 Mansfield Avenue, Pittsburgh, PA 15205

(412) 922-8400

Copies of the Scoping Document (SD1) outlining the subject areas to be addressed in the EA were distributed to the parties on the Commission's mailing list. Copies of the SD1 will be available at the scoping meeting or may be viewed on the Web at http://www.ferc.gov using the “eLibrary” link (see item m above).

Environmental Site Review

The Applicant and FERC staff will conduct an Environmental Site Review for each project. The times and locations of these meetings are as follows:

Project: Montgomery Locks and Dam

Date: Thursday, October 9, 2014

Time: 9:00 a.m. (EDT)

Location: Corps' parking lot 100, Montgomery Dam Road, Monaca, PA 15061-2221

Project: Emsworth Locks and Dam and Emsworth Back Channel Dam

Date: Thursday, October 9, 2014

Time: 1:00 p.m. (EDT)

Location: Corps' parking lot 0, Western Avenue, Pittsburgh, PA 15202-17085

All interested individuals, organizations, and agencies are invited to attend. All participants should meet at the time and location specified above. All participants are responsible for their own transportation to the site. Anyone with questions about the Environmental Site Review should contact Mr. Thomas Feldman of Rye Development, LLC at (617) 433-8140 on or before October 3, 2014.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: September 22, 2014.
Nathaniel J. Davis, Sr.,
Deputy Secretary.

[FR Doc. 2014-23218 Filed 9-29-14; 8:45 am]

BILLING CODE 6717-01-P